FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 002550-005.

Title: New Orleans/Maersk Terminal Lease Agreement.

Parties: The Board of Commissioners of the Port of New Orleans Maersk, Inc.

Synopsis: The proposed amendment permits Maersk to handle a limited amount of non-Maersk/CSX Lines cargo at its facility.

Agreement No.: 011618-001.

Title: APL/MOL/HMM Transpacific Slot Exchange Agreement.

Parties: American President Lines, Ltd., APL Co. PTE Ltd., Hyundai Merchant Marine Co., Ltd., Mitsui O.S.K. Lines, Ltd.

Synopsis: The proposed modification imposes uniform notice and withdrawal requirements on all parties and establishes specified matters upon which the parties can agree and procedures for so doing and implementing said matters, including variations in port calls, vessel complement, capitalization, slot-charter variations, and relationships with non-members.

Agreement No.: 011623-001.

Title: APL/MOL/HMM Asia—U.S. Atlantic Coast Space Sharing Agreement.

Parties: American President Lines, Ltd., APL PTE Ltd., Hyundai Merchant Marine Co., Ltd., Mitsui O.S.K. Lines, Ltd.

Synopsis: The proposed modification provides for uniform notice and withdrawal requirements for all members and provides procedures for agreeing on an implementing changes in various operating aspects, such as vessel complement, port rotation, slot-charter adjustments, capital requirements, organizational procedures, and relations with non-members.

Agreement No.: 011723-001.

Title: New World Alliance Facilitation Agreement.

Parties: American President Lines, Ltd., APL Co. PTE Ltd., Hyundai Merchant Marine Co., Ltd., Mitsui O.S.K. Lines, Ltd.

Synopsis: The proposed amendment specifies means for agreeing on and implementing variations in aspects of services offered, such as port rotation, vessel complement, adjustments in slot-charter arrangements, capitalization, relations with non-agreement parties, membership, and organizational matters.

Agreement No.: 011730-001.

Title: GWF/Dole Space Charter and Sailing Agreement.

Parties: Great White Fleet (US) Ltd., Dole Ocean Cargo Express, Inc.

Synopsis: The proposed amendment expands the agreement's geographic scope to include all U.S. Gulf ports and ports in Costa Rica and permits reciprocal space chartering between the parties.

Agreement No.: 011759.

Title: CSAV/CMA CGM Space Charter Agreement.

Parties: CMA CGM, S.A., Compania Sud-American De Vapores, S.A.

Synopsis: The proposed agreement establishes a vessel-sharing arrangement whereby CMA CGM will purchase space from CSAV in the trade between ports on the U.S. East Coast, including Puerto Rico, on the one hand, and ports in the Caribbean, Colombia, Panama, Ecuador, Peru, and Chile, on the other hand.

Agreement No.: 201120.

Title: Oakland/MTC License and Concession Terminal Agreement.

Parties: Port of Oakland, Marine Terminals Corporation.

Synopsis: The proposed agreement grants MTC rights to use certain premises in the Oakland Outer Harbor Area. The agreement runs through November 30, 2002.

By Order of the Federal Maritime Commission.
Dated: April 13, 2001.
Theodore A. Zook,
Assistant Secretary.

[FR Doc. 01-9618 Filed 4-17-01; 8:45 am]

BILLING CODE 6730-01-P